DEPARTMENT OF DEFENSE

Office of the Secretary

Defense Health Board Meeting

AGENCY: Department of Defense (DoD).

ACTION: Notice of meeting.

SUMMARY: Pursuant to the Federal Advisory Committee Act of 1972 (5 U.S.C., Appendix as amended), the Sunshine in the Government Act of 1976 (5 U.S.C. 552b, as amended), and 41 CFR 102-3.150, and in accordance with section 10(a)(2) of Public Law, the following meeting of the Defense Health Board (DHB) is announced:

DATES: September 4, 2008 (8 a.m.-4:15 p.m.) (Open Session). September 5, 2008 (8:30 a.m.-3:30 p.m.) (Open Session).

ADDRESSES: Sheraton Crystal City, 1800 Jefferson Davis Highway, Arlington, VA 22202.

FOR FURTHER INFORMATION CONTACT: Colonel Roger L. Gibson, Executive Secretary, Defense Health Board, Five Skyline Place, 5111 Leesburg Pike, Suite 810, Falls Church, Virginia 22041-3206, (703) 681-8448, EXT. 1228, Fax: (703) 681-3317, roger.gibson@ha.osd.mil.

SUPPLEMENTARY INFORMATION: Additional information, agenda updates, and meeting registration are available online at the Defense Health Board Web site, http://www.ha.osd.mil/dhb. The public is encouraged to register for the meeting. If special accommodations are required to attend (sign language, wheelchair accessibility) please contact Ms. Lisa Jarrett at (703) 681-8448 ext. 1280 by August 21, 2008. Written statements may be mailed to the above address, e-mailed to dhb@ha.osd.mil or faxed to (703) 681-3317.

Purpose of the Meeting: The purpose of the meeting is to address and deliberate pending and new Board issues and provide briefings for Board members on topics related to ongoing Board business.

Agenda: On September 4, 2008 during the morning session, the Board will receive updates on the activities from Defense Health Board subcommittees: Trauma and Injury/Combat Casualty Care, Traumatic Brain Injury External Advisory, and the Traumatic Brain Injury Family Care Giver's Panel. The Board will discuss plans for identifying best practices in health care delivery in response to the recommendations outlined in the Board's Task Force for the Future of Military Healthcare report. The Board will also receive presentations on the basics of the TRICARE Health Plan and address issues of Environmental Risk Assessments in Operational Settings. The Vaccine Safety and Effectiveness Workgroup and the Biowarfare Countermeasures Subcommittee will provide updates on their activities. The Board will conduct an administrative session on the afternoon of September 4, 2008.

On September 5, 2008, the Board will discuss Amputee Care Sustainment, the DoD's plan for a Joint Pathology Center, and the activities of the Deployment Health Research Center. Questions will be presented to the Board on Lyme Disease Therapy and Applied Behavior Analysis (ABA) treatment for Autism. The meeting will conclude with open discussion and an awards ceremony.

Pursuant to 5 U.S.C. 552b, as amended, and 41 CFR 102-3.140 through 102-3.165 and subject availability of space, the Defense Health Board meeting from 80 a.m. to 4:15 p.m. on September 4, 2008 and from 8:30 a.m. to 3:30 p.m. on September 5, 2008 is open to the public. Any member of the public wishing to provide input to the Defense Health Board should submit a written statement in accordance with 41 CFR 102-3.140(C) and section 10(a)(3) of the Federal Advisory Committee Act, and the procedures described in this notice. Written statement should be not longer than two type-written pages and must address the following detail: The issue, discussion, and a recommended course of action. Supporting documentation may also be included as needed to establish the appropriate historical context and to provide any necessary background information.

Individuals desiring to submit a written statement may do so through the Board's Designated Federal Officer at the address detailed above at any point. However, if the written statement is not received at least 10 calendar days prior to the meeting, which is subject to this notice, then it may not be provided to or considered by the Defense Health Board until the next open meeting.

The Designated Federal Officer will review all timely submissions with the Defense Health Board Chairperson, and ensure they are provided to members of the Defense Health Board before the meeting that is subject to this notice. After reviewing the written comments, the Chairperson and the Designated Federal Officer may choose to invite the submitter of the comments to orally present their issue during an open portion of this meeting or at a future meeting.

The Designated Federal Officer, in consultation with the Defense Health Board Chairperson, may, if desired, allot a specific amount of time for members of the public to present their issues for review and discussion by the Defense Health Board.

Dated: August 5, 2008.
Patricia L. Toppings,
OSD Federal Register Liaison Officer, Department of Defense.

[FR Doc. E8-18599 Filed 8-7-08; 4:15 pm]

BILLING CODE 5001-06-P